DEPARTMENT OF ENERGY

Federal Energy Regulatory Commission

[Docket No. CP08-20-000]

Ozark Gas Transmission, LLC; Notice of Request Under Blanket Authorization

November 20, 2007.

Take notice that on November 9, 2007, Ozark Gas Transmission, LLC (Ozark), 1437 S. Boulder, Suite 1500, Tulsa, Oklahoma 74119, filed in Docket No. CP08-20-000 a prior notice request pursuant to sections 157.205(b), 157.208(c), and 157.210 of the Commission's regulations under the Natural Gas Act (NGA). The Commission issued Ozark's blanket certificate in Docket No. CP98-265-000 on July 1, 1998.¹ Ozark seeks authorization to install and operate a compressor station, to be known as the Standing Rock Compressor, on Ozark's 16-inch mainline in Izard County, Arkansas, all as more fully set forth in the application which is on file with the Commission and open to public inspection. The filing may also be viewed on the web at http://www.ferc.gov using the “eLibrary” link. Enter the docket number excluding the last three digits in the docket number field to access the document. For assistance, contact FERC at FERCOnlineSupport@ferc.gov or call toll-free, (886) 208-3676 or TTY, (202) 502-8659.

¹ 84 FERC ¶ 61,002 (1998).

Specifically, Ozark proposes to design and construct a 6,500 horsepower booster compressor station consisting of two 3,250 horsepower Aerial JGD-4 electric drive compressors and ancillary equipment. Installation of the Standing Rock Compressor Station will increase Ozark's current firm certificated capacity from 400,000 Mcf/d to 500,000 Mcf/d, at an estimated cost of $18,848,718.

Any questions regarding this application should be directed to David A. Harrell, Sr., Director of Regulatory Affairs, Ozark Gas Transmission, LLC, 1437 S. Boulder, Suite 1500, Tulsa, Oklahoma 74119, or by phone (918) 398-2123, fax (918) 398-2165 or e-mail dharrell@ozarkgastransmission.com.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205), a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Comment Date: January 22, 2008.

Kimberly D. Bose,
Secretary.

[FR Doc. E7-23072 Filed 11-27-07; 8:45 am]

BILLING CODE 6717-01-P